ELECTION ASSISTANCE COMMISSION

Election Data Collection Grant Program

AGENCY: United States Election Assistance Commission.

ACTION: Notice.

Funding Opportunity Title: Election Data Collection Grant Program.

Announcement Type: Competitive Grant—Initial.

Funding Opportunity Number: EAC-08-001.

CFDA Number: 90.400.

DATES: Applications are due by 4 p.m. Eastern Daylight Time on April 28, 2008.

SUMMARY: On December 22, 2007, Congress authorized the Omnibus Appropriations Act for Fiscal Year 2008. Public Law 110-161 authorized the U.S. Election Assistance Commission (“the EAC”) to award $10 million in grants to States to implement an election data collection program (“the program”). Under the Administrative Provision of the Act (Section 501), the EAC shall establish a program to provide a grant of $2 million to each of five eligible States to improve the collection of precinct level data relating to the November 2008 Federal elections. The program is designed to: (a) Develop and document a series of administrative and procedural best practices in election data collection that can be replicated by other States; (b) improve data collection processes; (c) enhance the capacity of States and their jurisdictions to collect accurate and complete election data; and (d) document and describe particular administrative and management data collection practices, as well as particular data collection policies and procedures. For more information please visit http://www.eac.gov.

I. Funding Opportunity Description

The announcement for this grant program is authorized by the Omnibus Appropriation Act for Fiscal Year (FY) 2008, Public Law (Pub. L.) 110-161, Title V. Under the Act, the U.S. Election Assistance Commission (EAC or Commission) is sanctioned to award grants to States for improving the collection of precinct-level data for Federal elections. This announcement offers the applicant State the opportunity to provide for the collection of such data in a common electronic format to be determined by the Commission.

Election Data Collection Grant Program

Public Law 110-161 authorizes the EAC to award $10,000,000 in grants to States to implement a data collection program for the Federal elections scheduled to be held in November 2008. Of that sum, $2 million will be provided to each of five eligible applicants.

The EAC is soliciting proposals from States to improve the collection of data at the precinct level for the November 2008 Federal elections. In general, a precinct is defined as an administrative division of a county or municipality to which voters have been assigned by their residing address for voting.

Grantees will be required to report to the EAC on all data elements as described in Appendix A. (Appendix A is available at the Web site http://www.submitgrant.net or http://www.eac.gov.) States that receive an award are also required to report, at a minimum, precinct level data for questions 1, 2, 18a, 23, 29, and 30.

The purpose of the Election Data Collection Grant Program is to:

• Develop and document a series of administrative and procedural best practices in election data collection that can be replicated by other States;

• Improve data collection processes;

• Enhance the capacity of States and their jurisdictions to collect accurate and complete election data; and

• Document and describe particular administrative and management data collection practices, as well as particular data collection policies and procedures.

State grantees will use the grant funds in part to implement new data collection procedures, systems, and/or methodologies for the November 2008 election. They will have until March 2009 to report the data collected from that election to the EAC. They will also be required to submit to the EAC a semi-annual program report, which is due six months following the inception of the grant, as well as a final program report, which is due June 1, 2009. Additionally, States must submit an SF 269 financial report on January 15, 2009, for the period beginning on the date of award of the contract and ending on December 31, 2008; and on July 31, 2009 for the period beginning January 1, 2008 and ending on the close out of the grant program.

Not later than June 30, 2009, the EAC will submit a report to Congress on the impact of the grant program on States' ability to effectively collect Federal election data. The EAC will consult with States receiving grants under the program, along with the Election Assistance Commission Board of Advisors, to compile the report. The report will include recommendations to improve the collection of data relating to regularly scheduled general elections for Federal office in all States. This will include recommendations for changes in Federal law or regulations and the EAC's estimate of the amount of funding necessary to carry out such changes.

II. Award Information

Funding Instrument Type: Grant.

Anticipated Total Priority Area Funding: $10,000,000.

Anticipated Number of Awards: 5.

Amount of Award to Each State Awarded: $2,000,000.

Project Period for Awards: From the date of award until June 30, 2009.

III. Eligibility Information

1. Eligible Applicants

States, through their Chief State Election Officials, are the sole eligible applicants for this grant.

States are permitted to identify other organizations that may assist them in implementing their data collection efforts on behalf of this grant. However, these organizations will be considered subcontractors, rather than co-participants or sub-grantees, and are not eligible to apply for the grant under this program. Any applications sent by States citing other organizations as co-applicants or sent by non-States will be considered non-responsive and returned without review.

To be eligible for an Election Data Collection Grant, a State must submit an application containing the following information and assurances:

• A plan for the use of the funds provided by the grant which will expand and improve the collection of the election data relating to the regularly scheduled general election for Federal office held in November 2008, and will provide for the collection of such data in a common electronic format (as determined by the Commission). The State must, at a minimum, be able to provide data in Excel or in Excel-compatible software.

• An assurance that the State will comply with all requests made by the Commission for the compilation and submission of the data.

• An assurance that the State will provide the Commission with such information as the Commission may require in order to assist the Commission in preparing and submitting a report to Congress. The Commission, in consultation with the States receiving grants under the program and the Election Assistance Commission Board of Advisors, shall submit a report to Congress on the impact of the program on the collection of the election data not later than June 30, 2009.

• Such other information and assurances as the Commission may require.

For the purposes of this grant, a “State” has the meaning given in Section 901 of HAVA (42 U.S.C. 15541.). The term “State” is defined as each of the 50 States, along with the District of Columbia, the Commonwealth of Puerto Rico, Guam, American Samoa, and the United States Virgin Islands.

States are also required to address the six criteria described in Section V. (“Application Review Information”) in a narrative statement that must not exceed 30 pages.

2. Cost Sharing or Matching

None.

IV. Application, Submission, and Related Information

1. General Guidelines for Application

Your application must include a narrative statement that:

• Outlines a plan of action which describes the scope and detail of how the proposed work will be accomplished (e.g., identify the hours and dates of the program, staff to be used, role of staffers, and systems implemented), given the description and purpose detailed above regarding the Election Data Collection Grant Program;

• Illustrates the methods, work plan, and timetable for the data collection project;

• Describes the State's approach to collecting data, such as developing systems or methodologies, in order to enhance data collection;

• Describes the State's ability and resources that will enable it to quickly begin the data collection project based on stated capacity and the readiness of the staff and any partners to implement the project;

• Identifies the results and benefits to be derived from the data collection project;

• Illustrates how the State and any proposed partners have experience in data collection for elections or work related to the data collection program; and

• Presents a budget with reasonable project costs, appropriately allocated across component areas, which are sufficient to accomplish the objectives, such as documentation of the dollar amount requested, as well as a description of the fiscal controls and accounting procedures that will be used to ensure prudent use, proper disbursement, and accurate accounting of funds received under this program announcement.

• Indicates the level at which election data is collected and reported in the State—i.e., at the county, township, independent city, or borough level.

The narrative statement must address each of the six criteria described in Section V. (“Application Review Information”).

2. Federal Assistance Forms

Applicants must provide an Application for Federal Assistance consisting of Office of Management and Budget (OMB) forms SF 424, SF 424A, and Certifications/Assurances. Standard application forms can be requested by mail from Mr. Eduardo Hernandez, EAC Operations Center, 1515 Wilson Blvd., Suite 100, Arlington, VA 22209, by e-mail at EAC@lcgnet.com, or by phone at (888) 203-6161.

3. Notices of Intent To Apply

Applicants are encouraged to submit a non-binding Notice of Intent to Apply. To obtain this Notice of Intent to Apply, which is Appendix B of this document, go to the Web site http://www.submitgrant.net or http://www.eac.gov. Notices of Intent to Apply are not required and submission or failure to submit a notice has no bearing on the scoring of proposals received. The receipt of notices enables the EAC to better plan for the application review process. Notices of Intent to Apply are due April 9, 2008.

4. Applicant Question & Answer

States requesting clarity on specific issues of this RFA must submit those questions in writing to the following e-mail address: EAC@lcgnet.com. All questions must be received by 4 p.m., Eastern Daylight Time, on April 14, 2008. Questions and answers will be posted on a rolling basis at the following Web site address: http://www.submitgrant.net.

5. Content and Form of Application Submission

The Application

You may view this grant announcement at http://www.submitgrant.net. Applicants can submit applications electronically or in hard copy. Electronic submissions can be submitted through http://www.submitgrant.net. Hard copy applications must be sent to EAC Operations Center, 1515 Wilson Blvd., Suite 100, Arlington, VA 22209. For additional information concerning submissions, contact the EAC Support Center by phone at (888) 203-6161, or via e-mail at EAC@lcgnet.com. Each application must include only one proposed State project.

Data Universal Number System (DUNS) Number Requirement. All applicants must have a Dun & Bradstreet Data Universal Numbering System (DUNS) number. On June 27, 2003, the Office of Management and Budget (OMB) published in the Federal Register a new Federal policy applicable to all Federal grant applicants. The policy requires Federal grant applicants to provide a DUNS number when applying for Federal grants or cooperative agreements on or after October 1, 2003. The DUNS number will be required whether an applicant is submitting a paper or electronic application. These numbers are issued by Dun & Bradstreet. Please ensure that your organization has a DUNS number. You may acquire a DUNS number at no cost by calling the dedicated toll-free DUNS number request line at 1-866-705-5711 or you may request a number online at http://www.dnb.com.

Application Requirements

A complete application consists of the following items:

• Narrative Statement (must not exceed 30 pages) that addresses the six criteria described in Section V. (“Application Review Information”);

• Application for Federal Assistance (SF 424, REV 4-92);

○ Budget Information—Non-Construction Programs (SF 424A, REV 4-92);

○ Budget justification for Section B—Budget Categories;

○ Assurances—Non-Construction Programs (Standard Form 424B, REV 4-92);

• Statement attesting to non-partisanship of the program; and

• Certification regarding lobbying.

Applicants that are submitting their application in paper format should submit one original and two copies of the complete application. The original and each of the two copies must include all required forms, certifications, assurances, and appendices. The original copy of the application must have the original signature(s) of the authorized representative of the applicant organization.

Do not include extraneous materials as attachments, such as agency promotion brochures, slides, tapes, film clips, minutes of meetings, survey instruments, compact or DVD disks, or entire articles of incorporation.

The applicant must disclose the names of individuals and organizations that assisted it with the proposal preparation.

Format of the Application

Each application must include contents that meet the following specifications:

• Use white paper only.

• Use 8.5 x 11″ pages (on one side only) with one-inch margins (top, bottom and sides).

• Paper sizes other than 8.5 x 11″ will not be accepted. This is particularly important because it is often not possible to reproduce copies in a size other than 8.5 x 11″.

• Use no less than a 12-point Arial or 12-point Times New Roman font.

• Double-space all narrative pages.

• There is a 30-page limit for the narrative portion, excluding budgetary information, required appendices, assurances, certifications, and standard forms. Please do not repeat information detailing existing State programs.

• Do not include critical details in any appendices not required by the EAC because those appendices will not be included for purposes of the ratings process.

• Do not bind copies. Secure pages with a binder clip, paper clip, or 3-ring binder. Please do not insert dividers or other implements that cannot be put through a copier.

• The use of color in typefaces, graphs or charts is not recommended.

No grant award will be made under this announcement on the basis of an incomplete application.

5. Submission Dates and Times

Deadline: You must submit the application for this grant announcement no later than 4 p.m., Eastern Daylight Time, on the above referenced date. The deadline applies to both electronic and paper submissions.

Applications hand-carried by applicants, applicant couriers, other representatives of the applicant, or by overnight/express mail couriers must be received by 4 p.m., Eastern Daylight Time, on the above referenced date at the following address: Eduardo Hernandez, EAC Operations Center, 1515 Wilson Blvd., Suite 100, Arlington, VA 22209.

Late Applications: Late applications will not be considered. Applications which do not meet the aforementioned criteria are considered late applications, absent extreme circumstances to be determined by the Commission. Each late applicant will be notified that its application will not be considered in the current competition.

Extension of deadlines: The EAC may extend application deadlines where circumstances such as Acts of God (floods, hurricanes, etc.) occur. Determinations to extend or waive deadline requirements rest with the U.S. Election Assistance Commission. Notification of any deadline extension will be posted on the Federal Register, as well as on the EAC's Web site.

6. Intergovernmental Review

State Single Point of Contact (SPOC)

This program is covered under Executive Order 12372, “Intergovernmental Review of Federal Programs.” Under the Order, States may design their own processes for reviewing and commenting on proposed Federal assistance under covered programs. As of January 1, 2008, the following jurisdictions have elected to participate in the Executive Order process:

Arkansas, California, Delaware, Florida, Georgia, Iowa, Kentucky, Maine, Maryland, Michigan, Mississippi, Missouri, Nevada, New Hampshire, North Dakota, Rhode Island, South Carolina, Texas, Utah, West Virginia, Wisconsin, District of Colombia, Puerto Rico, American Samoa, Guam, North Mariana Islands, and the Virgin Islands. Applicants from these jurisdictions should determine the SPOC for that jurisdiction, and contact their SPOC as soon as possible to alert them of the prospective application and receive instructions. Applicants must submit any required material to the SPOC as soon as possible so that the program office can obtain and review SPOC comments as part of the award process. The applicant must submit all required materials, if any, to the SPOC and indicate the date of this submittal (or the date of contact if no submittal is required) on the Standard Form 424, item 16a. Under 45 CFR 100.8(a)(2), a SPOC has up to 60 days from the application deadline to comment on proposed new or competing continuation awards.

Applicants from a jurisdiction that does not participate in the Executive Order process, and which have met the eligibility requirements of this program, are still eligible to apply for a grant even if a State, Territory, Commonwealth, etc. does not have a SPOC.

A list of the Single Points of Contact for each State and Territory can be obtained from the following Web site: http://www.whitehouse.gov/omb/grants/spoc.html.

7. Funding Restrictions

Grant applicants are to request $2,000,000 in funding. States may request neither more nor less than that amount.

Pre-award costs are not allowable charges to this program. Applications that include pre-award costs with their submission will be considered non-responsive and will not be eligible for funding under this announcement.

Indirect labor costs are not an allowable activity or expenditure under this program. Applications that propose construction projects or expenditures will be considered non-responsive and will not be eligible for funding under this announcement.

The purpose of this program is to focus on election data. Voter registration and Get-Out-The-Vote (GOTV) efforts are not allowable activities under this program. Applications that propose voter registration or GOTV efforts will be considered non-responsive and will not be eligible for funding under this announcement.

Grant applicants should be aware that, as States, they are subject to the cost principles outlined in the OMB Circular A-87 (found online at http://www.whitehouse.gov/OMB/circulars/a087/a87_2004.html) along with the Uniform Administrative Requirements for Grants and Cooperative Agreements to State and Local Governments (“Common Rule,” Administrative Requirements, 53 FR 8087, March 11, 1988).

8. Other Application Requirements

2008 Election Day Survey

Please note that grantees are expected to respond to the 2008 Election Day Survey's request for state- and county-level data.

Review Process

Panels of elections and research experts will conduct an independent review of all applications. The panelists will assess each application based on the criteria specified in this application to determine the merits of the proposal and the extent to which it furthers the purposes of the grant program. The EAC will review the recommendations of the panel. Final award decisions will be made by the EAC after consideration of the comments and recommendations of the review panelists, and the availability of funds. It is anticipated that applicants will be notified of a grant award on or before May 30, 2008.

V. Application Review Information

In considering how applicants will carry out the responsibilities addressed under this announcement, competing applications for grants will be reviewed and evaluated against the following criteria:

1. Criteria (Total Possible Points: 100)

Criterion 1: Program Strategy (Maximum 20 Points)

Applicants will be evaluated on the extent to which they describe how the grant funds will be used for the collection of Federal election data.

Applicants will also be evaluated on the extent to which their application:

• Proposes infrastructure development that will improve their State's ability to collect data for the 2008 Federal elections and future Federal elections at the precinct level.

• Illustrates that they understand the characteristics of the State's current Federal election data collection system(s) and the strengths and weaknesses of that system(s).

• Describes the major barriers to the collection of Federal election data at the precinct level in their State, as well as the proposed grant project in terms of its approach to barrier elimination and the problems for which this EAC grant will be an answer. Applications must address the question: Is your State currently able to collect and report on data at the precinct level? If the answer is yes, the applicant must describe its database system's ability to collect information at this level and how it's been done in the past (if applicable). If the answer is no, the applicant must describe what systems it will put in place in order to collect these data.

• Defines realistic milestones and work products to be accomplished during the budget period. Examples of work products include, among others, completed system designs or reporting systems. The timetable for accomplishing the major tasks to be undertaken should include key dates relevant to the proposed project (e.g., the November election cycle).

• Describes their State's method for collecting election data. Does the State allow for centralized or decentralized authority? That is, does the State determine how data is collected or are the counties (townships, independent cities, and boroughs) allowed to collect data as they wish?

• Briefly describes the impact, if any, of their State's political structure in terms of its centralized or decentralized authority and decision-making on their ability to collect precinct level data.

• Describes whether their State uses a top-down or bottom-up approach to collect data that feeds into the voter registration database. (Note: top-down means the data are hosted on a single, central platform (e.g., mainframe and/or client servers) and connected to terminals housed at the local level; bottom-up means the data are gathered or uploaded from local voter registration databases to form the statewide voter registration list).

• Indicates whether their State uses just one vendor or more than one vendor for its voter registration database(s).

Furthermore, applicants will be evaluated on the extent to which their proposal is written clearly, is logically presented, and demonstrates an understanding of the grant program's objectives.

Criterion 2: Feasibility of the Plan (Maximum 15 Points)

Applicants will be evaluated on the extent to which they illustrate that the methods, work plan, and timetable they provide inspire confidence that the goals of their proposal will be met. For example, States can include the extent to which:

• Outcomes and methods are clearly and effectively delineated;

• External partners are needed to successfully complete the project;

• The data collection infrastructure created complements and is coordinated with the State's current system; and

• Technical assistance is needed to further the project and can provide a budget that reflects the true costs of these services.

Criterion 3: Innovation (Maximum 20 Points)

Applicants will be evaluated on the extent to which they provide a unique approach to collecting data. This can include the development of systems or methodologies to enhance data collection. Grantees will be expected to electronically report the Federal data contained in Appendix A. Applicants will be evaluated on the extent to which they explain the status of current election data systems and describe the modifications that will be required to track Federal election results in November 2008. Applicants must be able to collect precinct level data for the following questions in Appendix A: 1, 2, 18a, 23, 29, and 30. Applicants should also discuss the feasibility and value of collecting precinct level data related to the other questions that appear in Appendix A. Describe the processes your state would use to collect these additional data. Applicants must address the following question: How would your State use the grant money to enhance its ability to collect precinct level election data? Be sure to discuss any innovative strategies your State has implemented (or will implement) to improve data collection efforts. Applicants must also describe how their State has been collecting at the State, county (township, independent city, borough), and precinct levels data related to:

• UOCAVA voters (e.g., ballot transmittals and receipt of those ballots, reasons for ballot rejection);

• Newly registered voters (e.g., tracking the sources of voter registration applications from various State agencies);

• Absentees (e.g., sources of absentee ballots); and

• Provisional ballots

Applicants must discuss improvements they would make to the collection of these four data elements if they were to receive an award. Additionally, applicants that are already doing well in the area of data collection must go beyond describing the successes they have had; they should discuss how they will improve their data collection in an innovative way, and how those methods could possibly be replicated by other States.

Criterion 4: Readiness to Proceed (Maximum 15 Points)

Applicants will be evaluated on the extent to which they describe their ability to quickly begin the data collection project based on existing capacity. Applicants will be evaluated on the extent to which they describe the readiness of the staff and any partners to implement the project. This includes the extent to which the application describes a qualified and sufficient staffing pattern to accomplish the outcomes for the demonstration, and techniques to ensure that well-qualified staff will be enlisted in a timely manner.

• Evidence that key project staff, by virtue of their personal and/or first-hand professional experiences with data collection, have the requisite knowledge to implement project goals;

• Proposed management structure and how key project staff will relate to the proposed project director, the EAC, and any interagency or community working groups;

• Description of the sub-contractors or partners to be involved in the grant program and receiving funds, their management structure and organization, an outline of the specific tasks to be executed by the sub-contractor or partner and the reporting mechanisms that the State will require of each sub-contractor or partner;

• Brief biographical sketches of the project director and key project personnel indicating their qualifications, and prior experience for the project. Resumes for the key project personnel should be provided as an attachment;

• Description of your State's capacity (i.e. staffing, organizational, management) to implement this grant program; and

• Description of how your State's plan for precinct-level data collection can be implemented within the established timeframe for this grant.

Criterion 5: Outcomes (Maximum 20 Points)

Applicants will be evaluated on the extent to which they describe processes to measure progress toward completing the assigned tasks. This includes the State's plans for evaluating the program's success over time, including establishing a baseline estimate for monitoring the completeness and accuracy of the Federal election data elements contained in Appendix A.

Criterion 6: Budget and Budget Justification (Maximum 10 Points)

Applicants will be evaluated on the extent to which the applicant presents (1) a budget with reasonable project costs, appropriately allocated across component areas, and sufficient to accomplish the objectives; and (2) demonstrates an understanding of accounting procedures necessary for Federal grant receipt.

Note: All necessary salary rates must appear on the application for the EAC.

(1) Applications will be evaluated based on the extent to which they discuss and justify the costs of the proposed project as being reasonable and programmatically justified in view of the activities to be conducted and the anticipated results and benefits including:

• A line item allocation for all proposed costs (salaries, materials, transportation, etc.). (5 points)

• A narrative budget justification that describes how the categorical costs are derived and a discussion of the reasonableness and appropriateness of the proposed costs. (2.5 points)

(2) Applicants will be evaluated based on the extent to which they detail the procedures used to ensure successful management of Federal grant funds including:

• A description of the fiscal control and accounting procedures that will be used to ensure prudent use, proper disbursement, and accurate accounting of funds received under this program announcement. (2.5 points)

VI. Other Evaluation Considerations

In addition to the aforementioned selection criteria, the EAC will consider other factors when making its final award selection. The EAC is interested in having a wide range of States represented in the group of States that are awarded grants. This includes a selection of States with the following characteristics:

• State Size. This is based on a State's citizen voting-age population and on its number of electoral votes. States are broken into categories of large, medium, and small.

• Region of the Country. To achieve regional diversity, State applicants may be chosen from the North, South, East, and West.

• Voter Registration Database. Whether a State's voter registration database system is top-down (hosted on a single, central platform (e.g., mainframe and/or client servers) and connected to terminals housed at the local level), or bottom-up (gathers or uploads its information from local voter registration databases to form the statewide voter registration list).

Multiple vendors versus single vendor. Consideration will be given to States that employ a contract with a single vendor and those that may use multiple vendors to operate their voter registration databases.

• Political Structure. This refers to States with centralized versus decentralized authority and decision-making.

• Unit of government. Data collection and reporting at the county, township, independent city, and borough levels.

• Election Day Registration States. Such States include Idaho, Maine, Montana, Iowa, Minnesota, New Hampshire, Wisconsin, and Wyoming

VII. Award Administration Information

1. Award Notices

Successful applicants will receive a grant agreement award document from the authorized EAC official. Three copies of the agreement will be sent via surface mail. The recipient should have an authorized official at the organization sign and return two copies of the agreement to the address listed in the award document. The agreement will also include the standard terms and conditions, general terms and conditions (if any) and special award conditions (if any), that are applicable.

Organizations whose applications will not be funded will be notified in writing by the EAC.

2. Administrative and National Policy Requirements

The EAC has not promulgated any such requirements at this time. It is expected that general administrative and national policy requirements will be followed, and the EAC will seek guidance on these requirements from other Federal agencies, such as the U.S. Department of Health and Human Services.

3. Reporting

Semi-Annual Program Reports

States awarded grants will be required to submit a semi-annual report, which is due six months following the inception of the grant. They will also be required to submit a final report, which is due June 1, 2009. Specific details regarding timeframes for submitting, and topics/subjects to be addressed, will be described in detail in the grant recipients' award letter.

Financial Reports

A SF 269 must be submitted on January 15, 2009, for the period beginning on the date of award of the contract and ending on December 31, 2008, and on July 31, 2009 for the period beginning January 1, 2008 and ending on the close out of the grant program. Specific details regarding timeframes for submitting, and line item expenditures to be reported on, will be described in detail in the grant recipients' award letter.

Other Reports

To obtain grant funds, grantees will be required to submit SF 270 forms (Request for Advance or Reimbursement) on a quarterly basis.

All reports will be submitted to the attention of Karen Lynn-Dyson at EAC Operations Center, 1515 Wilson Blvd., Suite 100, Arlington, VA 22209, or by e-mail at EAC@lcgnet.com. If you have any questions regarding report submission, please call (888) 203-6161.

The required standard forms 269 and 270 are located on the Internet at: http://www.whitehouse.gov/omb/grants/grants_forms.html.

4. OMB Number

The project described in this announcement is approved under OMB (Office of Management and Budget) control number 3265-0012, which expires 09/30/2008.

VIII. Agency Contacts

For Further Information Contact: Karen Lynn-Dyson at EAC Operations Center, 1515 Wilson Blvd., Suite 100, Arlington, VA 22209, by e-mail at EAC@lcgnet.com, or by phone at (888) 203-6161.

IX. Other Information

Meetings

All States receiving awards must plan to participate in periodic teleconferences or online meetings throughout the grant period.

Civil Rights

All grantees receiving awards under this grant program must meet the requirements of Title VI of the Civil Rights Act of 1964; Section 504 of the Rehabilitation Act of 1973; the Age Discrimination Act of 1975; Hill-Burton Community Service nondiscrimination provisions; and Title II, Subtitle A, of the Americans with Disabilities Act of 1990.

Additional Information About the EAC

Addition information about the U.S. Election Assistance Commission and its purpose can be found at the following Internet address: http://www.eac.gov.

Gracia Hillman,
Commissioner, U.S. Election Assistance Commission.

[FR Doc. E8-6263 Filed 3-26-08; 8:45 am]

BILLING CODE 6820-KF-P